DEPARTMENT OF COMMERCE

National Oceanic and Atmospheric Administration

Agency Information Collection Activities; Submission to the Office of Management and Budget (OMB) for Review and Approval; Comment Request; Pacific Islands Region Vessel and Gear Identification Requirements

AGENCY: National Oceanic and Atmospheric Administration (NOAA), Commerce.

ACTION: Notice of information collection, request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of the collection to OMB.

DATES: To ensure consideration, comments regarding this proposed information collection must be received on or before February 20, 2024.

ADDRESSES: Interested persons are invited to submit written comments to Adrienne Thomas, NOAA PRA Officer, at NOAA.PRA@noaa.gov. Please reference OMB Control Number 0648-0360 in the subject line of your comments. Do not submit Confidential Business Information or otherwise sensitive or protected information.

FOR FURTHER INFORMATION CONTACT: Requests for additional information or specific questions related to collection activities should be directed to Walter Ikehara, Fishery Information Specialist, National Marine Fisheries Service (NMFS), Pacific Islands Region, 1845 Wasp Blvd., Bldg. 176, Honolulu, HI, 96818, (808) 725-5175, walter.ikehara@noaa.gov.

SUPPLEMENTARY INFORMATION:

I. Abstract

This request is for an extension of a currently approved information collection.

The Magnuson-Stevens Fishery Conservation and Management Act (Magnuson-Stevens Act) established the Western Pacific Fishery Management Council (Council), to develop fishery ecosystem plans (FEP) for fisheries in the U.S. Exclusive Economic Zone (EEZ) and high seas of the Pacific Islands Region. These plans, when approved by the Secretary of Commerce, are implemented in Federal regulations by NMFS and enforced by NOAA's Office of Law Enforcement (OLE) and the U.S. Coast Guard (USCG), in cooperation with state and territorial agencies. The FEPs and Federal regulations are intended to prevent overfishing and to ensure the long-term productivity and social and economic benefit of the resources.

Regulations at 50 CFR 665.16, 300.35, and 300.217 require that all U.S. vessels with Federal permits that fish for western Pacific fishery management unit species must display identification markings on the vessel. Each Vessel registered for use, with a permit issued under Subparts B through E and Subparts G through I of 50 CFR 665, must have the vessel's official number displayed on both sides of the deckhouse or hull, and on an appropriate weather deck. Regulations at 50 CFR 300.35 require that each vessel fishing under the South Pacific Tuna Treaty, must display its international radio call sign on the hull, the deck, and on the sides of auxiliary equipment, such as skiffs and helicopters. Vessels registered for use with a permit issued under Subpart F of 50 CFR 665 and vessels fishing for highly migratory species in the Western and Central Pacific Fisheries Commission (WCPFC) Convention Area under Subpart O of 50 CFR 300, and in international waters under Subpart R of 50 CFR 300, must comply with the regulations at 50 CFR 300.217 and 50 CFR 300.336 requiring the display of the vessel's international radio call sign on both sides of the deckhouse or hull, and on an appropriate weather deck, unless specifically exempted. In each case, the vessel's identifying numbers must be a specific size and in specified locations. The display of the identifying numbers aids in fishery law enforcement.

The regulations at 50 CFR 665.128, 665.228, 665.428, 665.628, and 665.804 require that certain fishing gear must be marked. In the pelagic longline fisheries, the vessel operator must ensure that the official number of the vessel is affixed to every longline buoy and float. In the coral reef ecosystem fisheries, the vessel number must be affixed to all fish and crab traps. The marking of gear links fishing or other activities to the vessel, aids law enforcement, and helps in determining damage to or loss of gear from the vessel, as well as any civil proceedings.

II. Method of Collection

The vessel owner or crew paints the identification markings on each vessel and associated equipment and gear. NMFS collects no other information.

III. Data

OMB Control Number: 0648-0360.

Form Number(s): None.

Type of Review: Regular submission, extension of a current information collection.

Affected Public: Business or other for-profit organizations; Individuals or households.

Estimated Number of Respondents: 324.

Estimated Time per Response: 1.25 hours per purse seine vessel and 0.75 hours per other fishery vessel for vessel ID marking. 0.083 hours per gear marking.

Estimated Total Annual Burden Hours: 2,337.

Estimated Total Annual Cost to Public: $89,473.

Respondent's Obligation: Mandatory.

Legal Authority: 50 CFR 665, 50 CFR 300.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this Information Collection Request. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-27861 Filed 12-18-23; 8:45 am]

BILLING CODE 3510-22-P